DEPARTMENT OF ENERGY

Federal Energy Regulatory Commission

Sunshine Act Meeting

The following notice of meeting is published pursuant to section 3(a) of the government in the Sunshine Act (Pub. L. 94-409), 5 U.S.C. 552b:

Agency Holding Meeting: Federal Energy Regulatory Commission.

Date and Time: June 21, 2012, 10:00 a.m.

Place: Room 2C, 888 First Street NE., Washington, DC 20426.

Status: OPEN.

Matters To Be Considered: Agenda.

* NOTE—Items listed on the agenda may be deleted without further notice.

Contact Person for More Information: Kimberly D. Bose, Secretary, Telephone (202) 502-8400.

For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

982ND—MEETING

REGULAR MEETING

June 21, 2012, 10:00 a.m.

Item No. | Docket No. | Company
Administrative
A-1 | AD02-1-000 | Agency Business Matters.
A-2 | AD02-7-000 | Customer Matters, Reliability, Security and Market Operations.
A-3 | IN12-16-000 | Unidentified Entity.
Electric
E-1 | RM12-3-000 | Revisions to Electric Quarterly Report Filing Process.
E-2 | RM11-24-000, AD10-13-000 | Third-Party Provision of Ancillary Services; Accounting and Financial Reporting for New Electric Storage Technologies.
E-3 | RM10-11-000 | Integration of Variable Energy Resources.
E-4 | RM12-6-000, RM12-7-000 | Revisions to Electric Reliability Organization Definition of Bulk Electric System and Rules of Procedure.
E-5 | ER06-456-021, ER06-954-017, ER6-1271-016, ER07-424-012, EL07-57-007 | PJM Interconnection, L.L.C.
E-6 | ER06-456-022, ER06-456-023, ER06-954-018, ER06-954-019, ER06-1271-017, ER06-1271-018, ER07-424-013, ER07-424-014, EL07-57-008, EL07-57-009, ER07-1186-002, ER07-1186-003, ER08-229-002, ER08-229-003, ER08-1065-002, ER08-1065-003, ER09-497-003, ER09-497-004, ER10-268-002, ER10-268-003. | PJM Interconnection, L.L.C.
| ER06-880-017, ER06-880-018 | PJM Transmission Owners.
E-7 | OMITTED. |
E-8 | NP10-18-002 | North American Electric Reliability Corporation.
E-9 | EL12-21-001 | Powerex Corp. v. United States Department of Energy, Western Area Power Administration—Sierra Nevada Region.
E-10 | EL11-42-000 | Astoria Generating Company L.P.; NRG Power Marketing LLC; Arthur Kill Power, LLC; Astoria Gas Turbine Power LLC; Dunkirk Power LLC; Huntley Power LLC, Oswego Harbor Power LLC and TC Ravenswood, LLC v. New York Independent System Operator, Inc.
E-11 | OMITTE. |
E-12 | OMITTED. |
E-13 | ER12-1600-000 | Southwest Power Pool, Inc.
E-14 | EL09-61-001 | Louisiana Public Service Commission v. Entergy Corporation, Entergy Services, Inc, Entergy Louisiana, L.L.C., Entergy Arkansas, Inc., Entergy Mississippi, Inc., Entergy New Orleans, Inc., Entergy Gulf States Louisiana, LLC and Entergy Texas, Inc.
E-15 | OMITTED. |
E-16 | OMITTED. |
E-17 | OMITTED. |
E-18 | EL12-39-000 | Seminole Electric Cooperative, Inc. and Florida Municipal Power Agency v. Florida Power Corporation.
E-19 | OMITTED. |
E-20 | RM10-5-001 | Interpretation of Protection System Reliability Standard.
E-21 | OMITTED. |
E-22 | OMITTED. |
E-23 | OMITTED |
E-24 | OMITTED. |
E-25 | OMITTED. |
E-26 | OMITTED. |
E-27 | EL10-72-001 | Puget Sound Energy, Inc.
Gas
G-1 | RP12-465-000 | Equitrans, L.P.
G-2 | OR12-11-000 | Shell Pipeline Company LP.
G-3 | RP12-245-000 | TransColorado Gas Transmission Company LLC.
Hydro
H-1 | OMITTED. |
H-2 | P-14208-001 | Percheron Power, LLC.
H-3 | P-2188-201 | PPL Montana, LLC.
Certificates
C-1 | CP12-33-000 | Caledonia Energy Partners, L.L.C.
C-2 | CP12-4-000 | Southern Natural Gas Company, L.L.C.
| CP12-9-000 | High Point Gas Transmission, LLC.
C-3 | CP11-543-000 | ANR Pipeline Company.
| CP11-544-000 | TC Offshore LLC.
C-4 | CP12-5-000 | Trunkline Gas Company, LLC.
|  | Sea Robin Pipeline Company, LLC.
C-5 | CP11-13-000 | Columbia Gulf Transmission Company.
| CP11-103-000 | Texas Eastern Transmission, LP.
C-6 | CP12-51-000 | Bluewater Gas Storage, LLC.
C-7 | CP11-50-000, CP11-50-001 | PetroLogistics Natural Gas Storage, LLC.

A free Web cast of this event is available through www.ferc.gov. Anyone with Internet access who desires to view this event can do so by navigating to www.ferc.gov's Calendar of Events and locating this event in the Calendar. The event will contain a link to its Web cast. The Capitol Connection provides technical support for the free Web casts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

Dated: June 14, 2012.
Kimberly D. Bose,
Secretary.

[FR Doc. 2012-15040 Filed 6-15-12; 4:15 pm]

BILLING CODE 6717-01-P